DEPARTMENT OF AGRICULTURE

Forest Service

Nez Perce-Clearwater National Forests; Idaho; Clearwater National Forest Travel Planning

AGENCY: Forest Service, USDA.

ACTION: Notice of intent to prepare a supplemental environmental impact statement.

SUMMARY: The United States Department of Agriculture, Forest Service (“Forest Service”), is giving notice of its intent to prepare a supplemental environmental impact statement (SEIS) to the 2012 Clearwater National Forest Travel Planning Final Environmental Impact Statement for the Clearwater National Forest in the Nez Perce-Clearwater National Forests in Idaho. The SEIS will address travel plan compliance with Forest Plan standards for elk habitat and analyze a potential plan amendment for elk habitat effectiveness, apply the minimization criteria for National Forest System trails, and analyze the effects of designating the Fish Lake Trail for motor vehicle use.

DATES: The Forest Service is not seeking comments at this time. The draft SEIS will be published for public comment as required by 40 CFR 1503.1. Notice of the Draft SEIS will be published for public comment in the Federal Register and on the Nez Perce-Clearwater National Forests' project website, as well as in other local media. The comment period for the draft SEIS will be 45 days from the date of publication in the Federal Register of the notice of availability of the draft SEIS for public comment. The Forest Service anticipates that the draft SEIS will be available for public review in the summer of 2023.

ADDRESSES: Nez Perce-Clearwater National Forests, 1008 Highway 64, Kamiah, Idaho 83536.

FOR FURTHER INFORMATION CONTACT: Andrew Skowlund, North Fork District Ranger, 208-476-4541, or andrew.skowlund@usda.gov.

Individuals who use telecommunication devices for the deaf or hearing-impaired may call the Federal Information Relay Service at 800-877-8339, 24 hours a day, every day of the year, including holidays.

SUPPLEMENTARY INFORMATION: The SEIS will supplement the Clearwater National Forest Travel Planning Final EIS, published in the Federal Register January 2012, EIS No. 20120013, to comply with the court's remand order in Friends of the Clearwater v. United States Forest Service, No. 13-CV-515-ELJ (D. Idaho, Mar. 11, 2015) (“FOC I”) and Friends of the Clearwater v. Probert, No. 3:21-cv-00056-BLW (D. Idaho Mar. 12, 2022), final judgment entered on Dec. 1, 2022 (“FOC II”). The Final Record of Decision for the Clearwater National Forest Travel Planning was signed in November 2011. The Final Record of Decision for the Clearwater National Forest Travel Planning—for Recommended Wilderness Areas (Management Area B2) was signed in October 2017.

The Forest Supervisor of the Nez Perce-Clearwater National Forests will issue a new record of decision (ROD) after evaluating the SEIS and public comments. An objection period for the new ROD will be provided, consistent with 36 CFR part 218 and/or 36 CFR part 219.

Purpose and Need for the Proposed Action

The overall purpose of the 2012 Clearwater National Forest Travel Planning FEIS is to analyze designation of motor vehicle use within the 1,827,380-acre Clearwater National Forest portion of the Nez Perce-Clearwater National Forests.

Proposed Action

The proposed action is to issue a record of decision based on an analysis of consistency of motor vehicle use designations with applicable land management plan standards for elk habitat effectiveness and an analysis of a potential land management plan amendment for elk habitat effectiveness, as well as application of the minimization criteria for designation of National Forest System trails for motor vehicle use. The record of decision will determine whether or not to designate the Fish Lake Trail for motor vehicle use.

Expected Impacts

The Forest Service will evaluate the potential impacts of the Clearwater National Forest Travel Plan on elk habitat effectiveness and the potential impacts of any proposed land management plan amendment related to elk habitat effectiveness standards. Potential impacts related to motor vehicle use of the Fish Lake Trail will also be analyzed.

Responsible Official

Cheryl F. Probert, Nez Perce-Clearwater Forest Supervisor, Nez Perce-Clearwater National Forests Supervisor's Office, 1008 Highway 64, Kamiah, Idaho 83536.

Comments and Objection Process

A notice of intent was published in the Federal Register November 28, 2007, which initiated the scoping period for the Clearwater National Forest Travel Planning EIS. On November 13, 2007, a legal notice announcing the proposed action was published in the Lewiston Morning Tribune, the Clearwater National Forest's newspaper of record, initiating the 45-day scoping period. To provide ample opportunity for all interested parties to comment on the proposal, the scoping period was extended through February 2008. In accordance with 40 CFR 1502.9(d)(3), there will be no scoping conducted for this SEIS. The Forest Service will be seeking comments on the draft SEIS and participation in the objection process. Details about the draft SEIS will sent through GovDelivery. To sign up for GovDelivery and take advantage of electronic notifications, visit the Clearwater National Forest Travel Planning web page at https://www.fs.usda.gov/project/?project=17992, click on the link Subscribe to Email Updates under the Get Connected menu on the right hand side of the project web page, enter your email address, and click submit.

Nature of Decision To Be Made

The decision following the supplemental analysis will address both prior decisions for the Clearwater Travel Plan and the Clearwater Travel Plan for Recommended Wilderness. As part of the decision following this analysis, the responsible official will decide whether summer motor vehicle use should be allowed on the Fish Lake Trail. The responsible official may also consider a land management plan amendment for elk habitat.

Substantive Provisions

In accordance with 36 CFR 219.6, when evaluating an amendment for a land management plan, “the responsible official has the discretion to determine the scope, scale, and timing of an assessment. . . .” Per 36 CFR 219.13(b)(5), the responsible official shall “[d]etermine which specific substantive requirement(s) within 219.8 through 219.11 are directly related to the plan direction being added, modified, or removed by the amendment and apply such requirement(s) within the scope and scale of the amendment.” The relevant substantive requirements have not been determined for the potential land management plan amendment.

Dated: March 8, 2023.
Troy Heithecker,
Associate Deputy Chief, National Forest System.

[FR Doc. 2023-05146 Filed 3-13-23; 8:45 am]

BILLING CODE 3411-15-P